DEPARTMENT OF COMMERCE

National Oceanic and Atmospheric Administration

RIN 0648-XG539

Marine Mammals; File No. 22183

AGENCY: National Marine Fisheries Service (NMFS), National Oceanic and Atmospheric Administration (NOAA), Commerce.

ACTION: Notice; receipt of application.

SUMMARY: Notice is hereby given that Michelle Shero, Ph.D., 266 Woods Hole Road, Woods Hole, MA 02543, has applied in due form for a permit to conduct research on Weddell seals (Leptoncychotes weddellii).

DATES: Written, telefaxed, or email comments must be received on or before December 3, 2018.

ADDRESSES: The application and related documents are available for review by selecting “Records Open for Public Comment” from the “Features” box on the Applications and Permits for Protected Species (APPS) home page, https://apps.nmfs.noaa.gov, and then selecting File No. 22183 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216).

Research activities will take place between October 1 and March 31 for the five austral summer seasons. Each season will encompass two sampling periods: one during the lactation period (October to November) and one at the end of the molt (January to March). During the first period, up to 25 adult females will be given a health exam and dive recorders/transmitters will be recovered from females handled the previous molt period. At the end of the molt, up to 25 adult females will undergo a health and pregnancy status assessment and will be outfitted with a satellite-relay dive recorder. Unmanned aircraft system surveys will be used for photogrammetry of handled animals, as well as unhandled seals in larger area surveys. Up to 500 crabeater seals (Lobodon carcinophagus) may also be taken by incidental harassment. Research activities will conducted as part of a larger assessment of Weddell seals in the Ross Sea Marine Protected Area, led by the New Zealand Antarctic Program.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 30, 2018.
Julia Marie Harrison,
Chief, Permits and Conservation Division, Office of Protected Resources, National Marine Fisheries Service.

[FR Doc. 2018-24038 Filed 11-1-18; 8:45 am]

BILLING CODE 3510-22-P